FEDERAL COMMUNICATIONS COMMISSION

[FR ID 289076]

Radio Broadcasting Services; AM or FM Proposals To Change the Community of License

AGENCY: Federal Communications Commission.

ACTION: Notice.

DATES: The agency must receive comments on or before June 20, 2025.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The Media Bureau shall provide notice in the Federal Register that an application to modify an AM or FM station's community of license has been filed. See 71 FR 76208, 76211 (published December 20, 2006). The following applicants filed AM or FM proposals to change the community of license: HAMPDEN COMMUNICATIONS CO., WQVD, FAC ID NO. 51118, FROM: ORANGE-ATHOL, MA, TO: PAXTON, MA, FILE NO. 0000267213; RADIOJONES, LLC, WXRS, FAC ID NO. 36203, FROM: SWAINSBORO, GA, TO: HENDERSON, GA, FILE NO. 0000268855; EDUCATIONAL MEDIA FOUNDATION, KAZK, FAC ID NO. 176305, FROM: WILLCOX, AZ, TO: CATALINA, AZ, FILE NO. 0000267724; RECHARGE MEDIA PBC, KCRQ, FAC ID NO. 762286, FROM: JUNCTION, TX, TO: CHERRY SPRING, TX, FILE NO. 0000267045; NEW STAR BROADCASTING LLC, KRXD, FAC ID NO. 191519, FROM: MCNARY, AZ, TO: WAGON WHEEL, AZ, FILE NO. 0000267897; SOUTHERN BELLE, LLC, WQBG, FAC ID NO. 63837, FROM: ELIZABETHVILLE, PA, TO: CARROLL TOWNSHIP, PA, FILE NO. 0000268724; AND SUNBURY BROADCASTING CORPORATION, WQKX, FAC ID NO. 63890, FROM: SUNBURY, PA, TO: ELIZABETHVILLE, PA, FILE NO. 0000268726.

The full text of these applications is available electronically via Licensing and Management System (LMS), https://apps2int.fcc.gov/dataentry/public/tv/publicAppSearch.html.

Federal Communications Commission.
Nazifa Sawez,
Assistant Chief, Audio Division, Media Bureau.

[FR Doc. 2025-06807 Filed 4-18-25; 8:45 am]

BILLING CODE 6712-01-P